ENVIRONMENTAL PROTECTION AGENCY

40 CFR Part 52

[EPA-R04-OAR-2011-0408-201132; FRL-9314-1]

Approval and Promulgation of Implementation Plans and Designations of Areas for Air Quality Planning Purposes; Alabama, Georgia, and Tennessee: Chattanooga and Macon; Determination of Attainment by Applicable Attainment Date for the 1997 Annual Fine Particulate Standards

AGENCY: Environmental Protection Agency (EPA).

ACTION: Proposed rule.

SUMMARY: EPA is proposing to determine pursuant to Clean Air Act (CAA), that the Chattanooga, Tennessee-Georgia, fine particulate (PM2.5) nonattainment area (hereafter referred to as “the Chattanooga Area”) and the Macon, Georgia PM2.5 nonattainment area (hereafter referred to as “the Macon Area”) attained the 1997 annual PM2.5 national ambient air quality standards (NAAQS) by the applicable attainment date of April 5, 2010. The determinations of attainment were previously proposed by EPA on March 22, 2011, and were based on quality-assured and certified monitoring data for the 2007—2009 monitoring period. The Chattanooga Area is comprised of Hamilton County in Tennessee, Catoosa and Walker Counties in Georgia, and a portion of Jackson County in Alabama. The Macon Area is comprised of Bibb County in its entirety and a portion of Monroe County in Georgia. EPA is now proposing to find that both of the above-identified areas attained the 1997 annual PM2.5 NAAQS by their applicable attainment dates. EPA is proposing these actions because they are consistent with the CAA and its implementing regulations.

DATES: Comments must be received on or before July 5, 2011.

ADDRESSES: Submit your comments, identified by Docket ID No. EPA-R04-OAR-2011-0408, by one of the following methods:

1. http://www.regulations.gov: Follow the on-line instructions for submitting comments.

2. E-mail: benjamin.lynorae@epa.gov.

3. Fax: (404) 562-9019.

4. Mail: EPA-R04-OAR-2011-0408, Regulatory Development Section, Air Planning Branch, Air, Pesticides and Toxics Management Division, U.S. Environmental Protection Agency, Region 4, 61 Forsyth Street, SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-R04-OAR-2011-0408. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Sara Waterson or Joel Huey of the Regulatory Development Section, in the Air Planning Branch, Air, Pesticides and Toxics Management Division, U.S. Environmental Protection Agency, Region 4, 61 Forsyth Street, SW., Atlanta, Georgia 30303-8960. Sara Waterson may be reached by phone at (404) 562-9061, or via electronic mail at waterson.sara@epa.gov. Joel Huey may be reached by phone at (404) 562-9104, or via electronic mail at huey.joel@epa.gov.

SUPPLEMENTARY INFORMATION:

I. What are the actions EPA is taking?

II. What is the background for these actions?

III. What is the air quality for the 1997 annual PM2.5 NAAQS for the 2007-2009 monitoring period?

A. Chattanooga

B. Macon

IV. What is the effect of these actions?

V. What are the proposed actions?

VI. Statutory and Executive Order Reviews

I. What are the actions is EPA taking?

Based on EPA's review of the quality-assured and certified monitoring data for 2007-2009, and in accordance with section 179(c)(1) of the CAA and EPA's regulations, EPA proposes to determine that the Chattanooga and Macon Areas attained the 1997 annual PM2.5 NAAQS by the applicable attainment date of April 5, 2010.

On March 22, 2011, EPA published two proposed rulemakings to make determinations of attainment to suspend the requirements for the Chattanooga and Macon Areas to submit attainment demonstrations and associated reasonably available control measures (RACM), reasonable further progress (RFP) plans, contingency measures, and other planning State Implementation Plan (SIP) revisions related to attainment of the 1997 annual PM2.5 NAAQS so long as the Areas continue to attain the 1997 annual PM2.5 NAAQS. See 76 FR 15895 for the proposed rulemaking related to the Chattanooga Area; see 76 FR 15892 for the proposed rulemaking related to the Macon Area. Those proposed rulemakings also include useful background information on the PM2.5 NAAQS relevant to the Chattanooga and Macon Areas. EPA is moving forward with final action on the proposals to find that the Chattanooga and Macon Areas are attaining the PM2.5 NAAQS. Today's proposed actions, however, make determinations that the Chattanooga and Macon Areas attained the1997 annual PM2.5 NAAQS by the applicable attainment date of April 5, 2010. These actions are not a re-proposal of the March 22, 2011, attainment determinations to suspend the requirements for the Chattanooga and Macon Areas to submit an attainment demonstration and associated RACM, a RFP plan, contingency measures, and other planning SIP revisions related to attainment of the standard. Rather, today's actions are simply focused on the date by which the areas had attaining data.

II. What is the background for these actions?

As nonattainment areas for the 1997 annual PM2.5 NAAQS, the Chattanooga and Macon Areas had an applicable attainment date of April 5, 2010 (based on 2007-2009 monitoring data). Pursuant to section 179(c) of the CAA, EPA is required to make a determination on whether the Areas attained the standard by their applicable attainment date. Specifically, section 179(c)(1) of the CAA reads as follows: “As expeditiously as practicable after the applicable attainment date for any nonattainment area, but not later than 6 months after such date, the Administrator shall determine, based on the area's air quality as of the attainment date, whether the area attained the standard by that date.” Today's action is EPA's proposal that the Chattanooga and Macon areas attained the annual PM2.5 NAAQS by the applicable attainment date of April 5, 2010.

III. What is the air quality for the 1997 annual PM2.5 NAAQS for the 2007-2009 monitoring period?

Under EPA regulations at 40 CFR 50.7, the 1997 annual primary and secondary PM2.5 standards are met when the annual arithmetic mean concentration, as determined in accordance with 40 CFR part 50, Appendix N, is less than or equal to 15.0 μg/m³ at all relevant monitoring sites in the subject area.

EPA reviewed the ambient air monitoring data for the Chattanooga and Macon Areas in accordance with the provisions of 40 CFR part 50, Appendix N. All data considered have been quality-assured, certified, and recorded in EPA's Air Quality System database. This review addresses air quality data collected in the 3-year period from 2007-2009. The 3-year period from 2007-2009 is the period EPA must consider for areas that had an applicable attainment date of April 5, 2010.

A. Chattanooga

Table 1—Annual Average Concentrations in the Chattanooga Area (2007-2009)
Site name | Site No. | Annual average concentration (μg/m³)
Tombras Avenue | 47-065-0031 | 12.6
Soddy Daisy High School | 47-065-1011 | 11.7
Siskin Drive | 47-065-4002 | 12.7
Rossville | 13-295-0002 | ¹ 12.3

As shown above in Table 1, during the 2007-2009 design period, the Chattanooga Area met the 1997 annual PM2.5 NAAQS. The official annual design value for the Chattanooga Area for the 2007-2009 period is 12.7 μg/m³. More detailed information on the monitoring data for the Chattanooga Area during the 2007-2009 design period is provided in EPA's March 22, 2011, proposed rulemaking to approve the clean data determination for the Chattanooga Area for the 1997 annual PM2.5 NAAQS. See 76 FR 15895.

¹ The Rossville site did not meet 75 percent data completeness for the 2007-2009 time period due to roof replacement and subsequent relocation of the monitor. Because the site passed data substitution analysis, the design value for the Area is the highest reading monitor, which is Tombras Avenue.

B. Macon

Table 2—Annual Average Concentrations in the Macon Area (2007-2009)
Site name | Site No. | Annual average concentration (μg/m³) without data substitution | Annual average concentration (μg/m³) with data substitution
Macon Allied | 13-021-0007 | ²13.7 | ³14.9
Macon SE | 13-021-0012 | 12.0 | ⁴13.3

As shown above in Table 2, during the 2007-2009 design period, the Macon Area met the 1997 annual PM2.5 NAAQS both with and without data substitution. The official annual design value for the Macon Area for the 2007-2009 period is 13.7 μg/m³. More detailed information on the monitoring data for the Macon Area during the 2007-2009 design period is provided in EPA's March 22, 2011, proposed rulemaking to approve the clean data determination for the Macon Area for the 1997 annual PM2.5 NAAQS. See 76 FR 15892.

² Macon Allied design value considers co-located data where primary data are not available.

³ Macon Allied design value considers data substitution of 58.1 μg/m³ for all missing data in 1st quarter of 2008.

⁴ Macon SE Annual Mean considers data substitution for second and fourth quarters of 2008 and 3rd quarter of 2009.

IV. What is the effect of these actions?

Today's actions are only proposed determinations that the Chattanooga and Macon Areas attained the 1997 annual PM2.5 NAAQS by their applicable attainment date of April 5, 2010, consistent with CAA section 179(c)(1). Finalizing these proposed actions would not constitute a redesignation of either the Chattanooga or Macon Areas to attainment of 1997 annual PM2.5 NAAQS under section 107(d)(3) of the CAA. Further, finalizing these proposed actions do not involve approving maintenance plans for either the Chattanooga or Macon Areas as required under section 175A of the CAA, nor would it find that the Chattanooga or Macon Areas have met all other requirements for redesignation. Even if EPA finalizes today's proposed actions, the designation status of the Chattanooga and Macon Areas would remain nonattainment for the 1997 annual PM2.5 NAAQS until such time as EPA determines that the individual area meets the CAA requirements for redesignation to attainment and takes action to redesignate the individual area.

V. What are the proposed actions?

EPA is proposing to determine, based on quality-assured and certified monitoring data for the 2007-2009 monitoring period, that the Chattanooga and the Macon Areas attained the 1997 annual PM2.5 NAAQS by the applicable attainment date of April 5, 2010. These proposed actions are being taken pursuant to section 179(c)(1) of the CAA, and are consistent with the CAA and its implementing regulations.

VI. Statutory and Executive Order Reviews

These actions propose to make determinations of attainment based on air quality, and would not impose additional requirements beyond those imposed by state law. For that reason, these proposed actions:

• Are not “significant regulatory action” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not significant regulatory action subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

In addition, these proposed determinations that the Chattanooga and Macon Areas attained the 1997 annual average PM2.5 NAAQS by its applicable attainment date do not have Tribal implications as specified by Executive Order 13175 (65 FR 67249, November 9, 2000), because the SIPs are not approved to apply in Indian country located in the states, and EPA notes that it will not impose substantial direct costs on Tribal governments or preempt Tribal law.

List of Subjects in 40 CFR Part 52

Environmental protection, Air pollution control, Particulate matter, Reporting and recordkeeping requirements.

Authority: 42 U.S.C. 7401 et seq.

Dated: May 23, 2011.
Gwendolyn Keyes Fleming,
Regional Administrator, Region 4.

[FR Doc. 2011-13670 Filed 6-1-11; 8:45 am]

BILLING CODE 6560-50-P